SECURITIES AND EXCHANGE COMMISSION

[File No. 500-1]

Pingify International, Inc.; Order of Suspension of Trading

May 14, 2014.

It appears to the Securities and Exchange Commission that the public interest and the protection of investors require a suspension of trading in the securities of Pingify International, Inc. because of concerns regarding potential manipulative activity in Pingify's common stock that appears to be related to a promotional campaign currently being conducted through various Internet Web sites. Pingify International, Inc. is a Nevada corporation with its principal place of business located in Edmonton, Alberta, Canada. Its stock is quoted on OTC Link, operated by OTC Markets Group Inc., under the ticker: PGFY.

Therefore, it is ordered, pursuant to Section 12(k) of the Securities Exchange Act of 1934, that trading in the securities of the above-listed company is suspended for the period from 9:30 a.m. EDT, on May 14, 2014 through 11:59 p.m. EDT, on May 28, 2014.

By the Commission.
Kevin M. O'Neill,
Deputy Secretary.

[FR Doc. 2014-11461 Filed 5-14-14; 11:15 am]

BILLING CODE 8011-01-P